DEPARTMENT OF THE INTERIOR

National Park Service

[NPS-WASO-NAGPRA-NPS0033703; PPWOCRADN0-PCU00RP14.R50000]

Notice of Inventory Completion: U.S. Department of the Interior, National Park Service, Channel Islands National Park, Ventura, CA

AGENCY: National Park Service, Interior.

ACTION: Notice.

SUMMARY: The U.S. Department of the Interior, National Park Service, Channel Islands National Park has completed an inventory of human remains, in consultation with the appropriate Indian Tribes or Native Hawaiian organizations, and has determined that there is a cultural affiliation between the human remains and present-day Indian Tribes or Native Hawaiian organizations. Lineal descendants or representatives of any Indian Tribe or Native Hawaiian organization not identified in this notice that wish to request transfer of control of these human remains should submit a written request to Channel Islands National Park. If no additional requestors come forward, transfer of control of the human remains to the lineal descendants, Indian Tribes, or Native Hawaiian organizations stated in this notice may proceed.

DATES: Lineal descendants or representatives of any Indian Tribe or Native Hawaiian organization not identified in this notice that wish to request transfer of control of these human remains should submit a written request with information in support of the request to Channel Islands National Park at the address in this notice by May 16, 2022.

FOR FURTHER INFORMATION CONTACT: Ethan McKinley, Superintendent, Channel Islands National Park, 1901 Spinnaker Drive, Ventura, CA 93001, telephone (805) 658-5700, email ethan_mckinley@nps.gov.

SUPPLEMENTARY INFORMATION: Notice is here given in accordance with the Native American Graves Protection and Repatriation Act (NAGPRA), 25 U.S.C. 3003, of the completion of an inventory of human remains under the control of the U.S. Department of the Interior, National Park Service, Channel Islands National Park, Ventura, CA, and in the physical custody of the Fowler Museum at the University of California Los Angeles, Los Angeles, CA. The human remains were removed from Anacapa Island, Ventura County, CA.

This notice is published as part of the National Park Service's administrative responsibilities under NAGPRA, 25 U.S.C. 3003(d)(3). The determinations in this notice are the sole responsibility of the Superintendent, Channel Islands National Park.

Consultation

A detailed assessment of the human remains was made by Channel Islands National Park professional staff in consultation with representatives of the Santa Ynez Band of Chumash Mission Indians of the Santa Ynez Reservation, California.

History and Description of the Remains

At an unknown date in the 1970s or 1980s, human remains representing, at minimum, one individual were removed from an unknown location on Anacapa Island in Ventura County, CA. An unknown individual illegally collected a human cranium and mandible and transferred them to Dr. Donald Weissman DDS, a member of the faculty of the UCLA School of Dentistry, Dental Radiology Department, in the 1970s and 1980s, for use as a teaching demonstration. The human remains were donated by the professor's son, Dr. Albert Weissman, DDS, MSD, to the Fowler Museum at the University of California Los Angeles in 2017. Based on osteological analysis by specialists at the Fowler Museum, the human remains were identified as Native American and appear to be those of a young adult female. No known individual was identified. No associated funerary objects are present.

Anacapa Island is 2.9 km² and has 27 known archeological sites, all of which are considered associated with the Chumash based on historic records, ethnographic place names, and material culture.

Determinations Made by the U.S. Department of the Interior, National Park Service, Channel Islands National Park

Officials of the U.S. Department of the Interior, National Park Service, Channel Islands National Park have determined that:

• Pursuant to 25 U.S.C. 3001(9), the human remains described in this notice represent the physical remains of one individual of Native American ancestry.

• Pursuant to 25 U.S.C. 3001(2), there is a relationship of shared group identity that can be reasonably traced between the Native American human remains and the Santa Ynez Band of Chumash Mission Indians of the Santa Ynez Reservation, California.

Additional Requestors and Disposition

Lineal descendants or representatives of any Indian Tribe or Native Hawaiian organization not identified in this notice that wish to request transfer of control of these human remains should submit a written request with information in support of the request to Ethan McKinley, Superintendent, Channel Islands National Park, 1901 Spinnaker Drive, Ventura, CA 93001, telephone (805) 658-5700, email ethan_mckinley@nps.gov, by May 16, 2022. After that date, if no additional requestors have come forward, transfer of control of the human remains to the Santa Ynez Band of Chumash Mission Indians of the Santa Ynez Reservation, California may proceed.

The U.S. Department of the Interior, National Park Service, Channel Islands National Park is responsible for notifying the Santa Ynez Band of Chumash Mission Indians of the Santa Ynez Reservation, California that this notice has been published.

Dated: April 7, 2022.
Melanie O'Brien,
Manager, National NAGPRA Program.

[FR Doc. 2022-08120 Filed 4-14-22; 8:45 am]

BILLING CODE 4312-52-P